ENVIRONMENTAL PROTECTION AGENCY

40 CFR Part 52

[EPA-R09-OAR-2024-0620; FRL-12530-03-R9]

Air Plan Revision; California; Placer County Air Pollution Control District; New Source Review

AGENCY: Environmental Protection Agency (EPA).

ACTION: Final rule.

SUMMARY: The Environmental Protection Agency (EPA) is taking final action to approve a permitting rule submitted as a revision to the Placer County Air Pollution Control District (PCAPCD or “District”) portion of the California state implementation plan (SIP). This revision concerns the District's Nonattainment New Source Review permitting program for new and modified major stationary sources of air pollution in nonattainment areas under part D of title I of the Clean Air Act (CAA or “Act”). We are approving a local rule that has been revised to address deficiencies previously identified by the EPA in a prior action that included a limited approval and limited disapproval of a prior version of the rule. This final action stops all sanction and Federal implementation plan clocks started by our September 26, 2023 limited approval and limited disapproval and deferred by our April 2, 2025 interim final determination.

DATES: This rule is effective February 5, 2026.

ADDRESSES: The EPA has established a docket for this action under Docket ID No. EPA-R09-OAR-2024-0620. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Po-Chieh Ting, EPA Region IX, 75 Hawthorne St., San Francisco, CA 94105; telephone number: (415) 972-3191; email address: Ting.pochieh@epa.gov.

SUPPLEMENTARY INFORMATION: Throughout this document, “we,” “us,” and “our” refer to the EPA.

Table of Contents

I. Proposed Action

II. Public Comments and EPA Responses

III. EPA Action

IV. Incorporation by Reference

V. Statutory and Executive Order Reviews

I. Proposed Action

On April 2, 2025, the EPA proposed to approve PCAPCD Rule 502, “New Source Review,” into the California SIP.¹ This rule constitutes part of the District's program for preconstruction review and permitting of new or modified stationary sources under its jurisdiction. The rule revisions that are the subject of this action represent an update to the District's preconstruction review and permitting program and are intended to satisfy the requirements under part D of title I of the Act (“Nonattainment NSR” or “NNSR”).

¹ 90 FR 14426 (April 2, 2025).

Local agency | Rule No. | Rule title | Amended | Submitted
PCAPCD | 502 | New Source Review | 6/13/24 | 11/15/24

We proposed to approve Rule 502 because we determined that it complies with the relevant CAA requirements. As described in our April 2, 2025 proposed action, the EPA's final approval of Rule 502 corrects deficiencies identified in our September 26, 2023 limited disapproval action.² Our proposed action contains more information on Rule 502 and our evaluation.

² 88 FR 65816 (September 26, 2023).

II. Public Comments and EPA Responses

The EPA's proposed action provided a 30-day public comment period. During this period, we received one comment that addresses air quality generally but is not germane to the action.

III. EPA Action

No comments were submitted that change our assessment of Rule 502 as described in our proposed action. Therefore, as authorized in sections 110(k)(3) and 301(a) of the Act, the EPA is finalizing approval of Rule 502. This action incorporates the submitted Rule 502 into the California SIP and will replace the previously approved version of Rule 502 in the SIP.³ The approval of Rule 502 resolves all deficiencies forming the basis for our previous limited disapproval in 2023 of the prior version of Rule 502. This action also permanently terminates all sanction and Federal implementation plan clocks started by our September 26, 2023 limited approval and limited disapproval action and deferred by our April 2, 2025 interim final determination.⁴

³ As described in the EPA's April 2, 2025 proposed action, the EPA previously issued a limited approval of Rule 502 on September 26, 2023 (88 FR 65816). See 90 FR 14426 and 14427 (April 2, 2025), Table 2.

⁴ 88 FR 65816 (September 26, 2023); 90 FR 14414 (April 2, 2025).

IV. Incorporation by Reference

In this rule, the EPA is finalizing regulatory text that includes incorporation by reference. In accordance with requirements of 1 CFR 51.5, the EPA is finalizing the incorporation by reference of PCAPCD Rule 502, “New Source Review,” amended on June 13, 2024, which contains the District's Nonattainment New Source Review stationary source permitting program. The EPA has made, and will continue to make, these documents available through https://www.regulations.gov and at the EPA Region IX Office (please contact the person identified in the FOR FURTHER INFORMATION CONTACT section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by March 9, 2026. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Ammonia, Incorporation by reference, Intergovernmental relations, Nitrogen oxides, Ozone, Particulate matter, Reporting and recordkeeping requirements, Sulfur oxides, Volatile organic compounds.

Dated: December 11, 2025.
Michael Martucci,
Acting Regional Administrator, Region IX.

For the reasons stated in the preamble, the EPA amends 40 CFR part 52 as follows:

PART 52—APPROVAL AND PROMULGATION OF IMPLEMENTATION PLANS

1. The authority citation for part 52 continues to read as follows:

Authority: 42 U.S.C. 7401 et seq.

Subpart F—California

2. Section 52.220 is amended by adding paragraphs (c)(595)(i)(A)(3) and (c)(630) to read as follows:

§ 52.220 Identification of plan—in part.

* * * * *

(c) * * *

(595) * * *

(i) * * *

(A) * * *

(3) Previously approved on September 26, 2023, in paragraph (c)(595)(i)(A)(2) of this section and now deleted with replacement in (c)(630)(i)(A)(1) of this section: Rule 502, “New Source Review,” amended on August 12, 2021.

* * * * *

(630) The following regulations were submitted electronically on November 15, 2024, by the Governor's designee as an attachment to a letter dated November 13, 2024.

(i) Incorporation by reference. (A) Placer County Air Pollution Control District.

(1) Rule 502, “New Source Review,” amended on June 13, 2024.

(B) [Reserved]

(ii) [Reserved]

[FR Doc. 2026-00006 Filed 1-5-26; 8:45 am]

BILLING CODE 6560-50-P